DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 21, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Agriculture Innovation Centers.

OMB Control Number: 0570-0045.

Summary of Collection: USDA's Rural Business-Cooperative Service (RBCS) administers the Agriculture Innovation Center Demonstration (AIC) Program. The primary objective of this program is to provide funds to Agriculture Innovation Centers (Centers) which provide agricultural producers with technical and business development assistance. RBCS collects information from applicants to confirm eligibility for the program and to evaluate the quality of the applications. Recipients of awards are required to submit reporting and payment request information to facilitate monitoring of the award and disbursement of funds.

The Farm Security and Rural Investment Act of 2002 (Pub. L. 107-171) authorized the Secretary of the U.S. Department of Agriculture (USDA) to award grant funds to Centers. The Food, Conservation, and Energy Act of 2008 reauthorized the program through September 30, 2012. The Agricultural Act of 2014 (Pub. L. 113-79) reauthorized the program through September 30, 2018. The Agriculture Improvement Act of 2018 reauthorized the program through FY 2023.

Need and Use of the Information: Information is collected by RBCS, with the assistance of Rural Development State and Area Staff, as needed. The application information is used to confirm that the applicant and use of funds meet the eligibility requirements for the program as well as to assess the quality of the proposed project. The recipients are required to submit financial status and performance reports to confirm funds are being expended as approved and requests for advance or reimbursement to request payment. RBCS also uses the information to create data entries in its financial management system, the Guaranteed Loan System (GLS), to track application status and to obligate awards.

Description of Respondents: Not-for-profit institutions; business or other for-profit; farms.

Number of Respondents: 34.

Frequency of Responses: Annually.

Total Burden Hours: 1,465.

Rural Housing Service

Title: Socially-Disadvantaged Groups Grant Program.

OMB Control Number: 0570-0052.

Summary of Collection: The SDGG program was authorized by the Federal Agriculture Improvement and Reform Act of 2006 (section 2744), and further updated by the Federal Agricultural Improvement and Reform Act of 2009 (section 310B(e)) of the Consolidated Farm and Rural Development Act (7 U.S.C. 1932). The Act enables the Secretary of Agriculture to make grants to cooperatives, groups of cooperatives, and cooperative development centers where a majority of the board of directors or governing board is comprised of individuals who are members of socially disadvantaged groups and whose primary focus is to provide assistance to socially-disadvantaged groups.

Need and Use of the Information: This information collection is vital for RB-CS to make decisions regarding eligibility of applicants and selection priority among competing applicants to ensure compliance with applicable laws and regulations and to evaluate the program. RB-CS, its Program Management Division, and its staff will be the primary users of the information collected. The public can request a majority of the data requested of the grantees by RB-CS, except data that is confidential under the Freedom of Information Act. RB-CS will release only limited data during the processing of an application up until the grant is closed.

Description of Respondents: Not-for-profit institutions.

Number of Respondents: 40.

Frequency of Responses: Recordkeeping; reporting: semi-annually; annually.

Total Burden Hours: 668.

Rural Business-Cooperative Service

Title: Bio-refinery, Renewable Chemical, and Biobased Product Manufacturing Assistance Program.

OMB Control Number: 0570-0065.

Summary of Collection: The Rural Business-Cooperative Service (RBCS or the Agency) is a Rural Development agency of the U.S. Department of Agriculture and administers The Biorefinery, Renewable Chemical, and Biobased Product Manufacturing Assistance Program (Program). The Program was established under section 9003 of the 2008 Farm Bill and assists in the development, construction, and retrofitting of new and emerging technologies for the development of advanced biofuels by providing loan guarantees of up to $250 million. The Program's authority was continued in the Agricultural Acts of 2014 and 2018. This collection of information is necessary for Rural Development to identify projects eligible for loan guarantees under the Program. In accordance with the Paperwork Reduction Act of 1995 (Pub. L. 104-13, 44 U.S.C. chapter 35), Rural Development is submitting this information collection package to the Office of Management and Budget (OMB) for review and clearance.

Need and Use of the Information: The Agency will use various forms and written evidence to collect needed information to determine lender and borrower eligibility for loan guarantees, and to ensure the lender protects the government's financial interests. Lenders provide the Agency with quarterly construction progress reports demonstrating that engineering and financial criteria used in the review and approval of the application continue to be met during the construction phase of the project. Post-construction information will be collected demonstrating that the bio-refineries are operating and meeting all financial criteria projected during the application phase. If the information were not collected, the Agency would not be able to make prudent credit decisions nor monitor the lenders servicing activities.

Description of Respondents: Business or other for-profit.

Number of Respondents: 26.

Frequency of Responses: Recordkeeping; reporting: on occasion; annually.

Total Burden Hours: 8,005.

Rural Business Cooperative Service

Title: Guaranteed Loanmaking and Servicing Regulations.

OMB Control Number: 0570-0069.

Summary of Collection: The Business and Industry (B&I) program was legislated in 1972 under section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits. Beginning October 1, 2020, B&I guaranteed loans are made and serviced under 7 CFR 5001, ” Guaranteed Loans.” 7 CFR 5001 made no provision to transfer servicing responsibility of the existing loan portfolio, therefore all loans made prior to October 1, 2020, are still serviced under 7 CFR 4287 subpart B.

Need and Use of the Information: The collected information will be used to determine applicant/borrower eligibility, project feasibility, and to ensure borrowers operate on a sound basis and use loan funds for authorized purposes. Failure to collect proper information could result in improper determinations of eligibility, improper use of funds, and/or unsound loans.

Description of Respondents: Business or other for profit, not-for-profit institutions.

Number of Respondents: 2,800.

Frequency of Responses: Reporting: annually.

Total Burden Hours: 19,842.

Rural Business Cooperative Service

Title: Meat and Poultry Intermediary Lending Program (MPILP).

OMB Control Number: 0570-0080.

Summary of Collection: Section 751 of the Consolidated Appropriations Act of 2021 authorizes the Secretary of Agriculture to “. . . to prevent, prepare for, and respond to coronavirus by providing support for agricultural producers, growers, and processors impacted by coronavirus.” Given this authority, and appropriations provided for this purpose in section 751, up to $200 million in budget authority is being made available for the Meat and Poultry Intermediary Lending Program. Pursuant to this authority, the Rural Business-Cooperative Service (RBCS or Agency), a Rural Development (RD) Agency of the United States Department of Agriculture (USDA), has developed requirements for the Meat and Poultry Intermediary Lending Program (MPILP). The Agency has made grant funding available to facilitate financing to qualified Ultimate Recipients and projects for the start-up or expansion of meat or poultry processors to increase financing and processing capacity and help create a more resilient, diverse, and secure U.S. food supply chain.

Need and Use of the Information: RD, through its respective Specialty Programs Division in Washington, DC, and its staff located in 47 State Offices throughout the United States will be the primary user of the information collected. Under the Freedom of Information Act, the general public can request the majority of the data requested of the intermediaries by RD except data that is confidential. The Agency will release only limited data during the processing of an application up to the period of time the grant is closed. Based on projected funding levels, it is estimated that an average of approximately 75 entities will apply for an MILP grant and an average of 25 entities will be approved per year.

Description of Respondents: Business or other for profit, not-for-profit institutions.

Number of Respondents: 75.

Frequency of Responses: Reporting: annually.

Total Burden Hours: 8,021.

Levi S. Harrell,
Departmental Information Collection Clearance Officer.

[FR Doc. 2022-22845 Filed 10-20-22; 8:45 am]

BILLING CODE 3410-XY-P